NATIONAL SCIENCE FOUNDATION

DOE/NSF Nuclear Science Advisory Committee; Notice of Meeting

In accordance with the Federal Advisory Committee Act (Pub. L. 92-463, as amended), the National Science Foundation announces the following meeting.

Name: DOE/NSF Nuclear Science Advisory Committee (1176).

Date and Time: Saturday, September 13, 2003; 8 a.m.—5 p.m.

Place: Room 375, National Science Foundation, 4201 Wilson Blvd., Arlington, VA 22230.

Type of Meeting: Open.

Contact Person: Dr. Bradley D. Keister, Program Director for Nuclear Physics, National Science Foundation, 4201 Wilson Blvd., Arlington, VA 22230. Telephone: (703) 292-7377.

Purpose of Meeting: To provide advice and recommendations concerning the scientific programs of the NSF and DOE in the area of basic nuclear physics research.

Agenda:

September 13, 2003:

Introduction (R. Casten)

Report from DOE (D. Kovar)

Report from NSF (B. Keister)

Report from subcommittee on fundamental neutron science (R. Tribble)

Report from subcommittee on nuclear theory (B. Mueller)

Report from subcommittee on education (J. Cerny)

Discussion of recommendations concerning fundamental neutron science

Discussion of recommendations concerning nuclear theory

Public Comment

Dated: August 19, 2003.
Susanne Bolton,
Committee Management Officer.

[FR Doc. 03-21639 Filed 8-22-03; 8:45 am]

BILLING CODE 7555-01-M